DEPARTMENT OF TRANSPORTATION

Maritime Administration

[Docket No. MARAD-2000-7841]

AGENCY: Maritime Administration, Department of Transportation.

ACTION: Extension of comment period.

SUMMARY: The Maritime Administration (MARAD) is hereby giving notice that the closing date for comments in Docket No. MARAD-2000-7841, application of Marine Transport Corporation for written permission for temporary transfer to the coastwise trade of the integrated tug barge SMT Chemical Trader, has been extended to close of business (5:00 p.m. edt) September 15, 2000. The notice of application in Docket No. MARAD-2000-7841 was published in the Federal Register of August 28, 2000 (65 FR 52157-52158).

(Catalog of Federal Domestic Assistance Program)

By Order of the Maritime Administrator.
Dated: September 1, 2000.
Joel C. Richard,
Secretary, Maritime Administration.

[FR Doc. 00-23034 Filed 9-6-00; 8:45 am]

BILLING CODE 4910-81-P